DEPARTMENT OF COMMERCE

National Institute of Standards and Technology

[Docket Number 0906181061-91066-01]

Correction to Alternative Personnel Management System (APMS) at the National Institute of Standards and Technology

AGENCY: National Institute of Standards and Technology, Commerce.

ACTION: Notice; correction.

SUMMARY: National Institute of Standards and Technology (NIST) published a document in the Federal Register on July 15, 2008 (73 FR 40500) setting forth modifications to its Alternative Personnel Management System (APMS). The document erroneously contained “I” in two places. The correction set forth in this notice clarifies that “I” is a unit of salary increase, not a percentage.

DATES: This notice is effective on July 21, 2009.

FOR FURTHER INFORMATION CONTACT: For questions or comments, please contact Amy K. Cubert at the National Institute of Standards and Technology, (301) 975-3006.

Correction

In FR Doc. E8-16066, published on July 15, 2008 (73 FR 40500), on page 40501, beginning in the first column, the fourth paragraph under the heading “II. Basis for APMS Plan Modification,” as follows:

Performance pay increases will continue to be based on the annually determined percentage of the mid-point salary for each pay band in the career path. When the percentage is applied to the mid-point salary in each pay band, the resulting dollar amount is the unit of salary increase or “I” for that pay band and career path.

Percentages may differ by pay band and career path. The percentage used for any given career path and band will apply system-wide, except that the Director may authorize a particular operating unit to use a lower percentage for reasons related to solvency.

Dated: July 16, 2009.
Patrick Gallagher,
Deputy Director.

[FR Doc. E9-17269 Filed 7-20-09; 8:45 am]

BILLING CODE 3510-13-P